CONSUMER PRODUCT SAFETY COMMISSION

Sunshine Act Meetings Notice

Time and Date: Wednesday, March 1, 2017, 10:00 a.m.-12:00 p.m.

Place: Hearing Room 420, Bethesda Towers, 4330 East West Highway, Bethesda, Maryland.

Status: Commission Meeting—Open to the Public.

Matters to be Considered:

Decisional: Magnet Sets Safety Standard—Removal from the Code of Federal Regulations

A live webcast of the Meeting can be viewed at www.cpsc.gov/live.

Contact Person for More Information: Todd A. Stevenson, Office of the Secretary, U.S. Consumer Product Safety Commission, 4330 East West Highway, Bethesda, MD 20814, (301) 504-7923.

Dated: February 16, 2017.
Todd A. Stevenson,
Secretary.

[FR Doc. 2017-03552 Filed 2-17-17; 4:15 pm]

BILLING CODE 6355-01-P